DEPARTMENT OF THE INTERIOR

Bureau of Reclamation

Upper Truckee River and Marsh Restoration Project, El Dorado County, CA

AGENCY: Bureau of Reclamation, Interior.

ACTION: Notice of intent to prepare an environmental impact statement/environmental impact statement/environmental impact report (EIS/EIS/EIR) and notice of scoping meetings.

SUMMARY: Pursuant to section 102(2)(c) of the National Environmental Policy Act (NEPA), the Tahoe Regional Planning Agency (TRPA) Compact and Chapter 5 of the TRPA Code of Ordinances, and the California Environmental Quality Act (CEQA), the Department of the Interior, Bureau of Reclamation (Reclamation), the TRPA, and the California Tahoe Conservancy (Conservancy), intend to prepare a joint EIS/EIS/EIR. The EIS/EIS/EIR would evaluate a joint Reclamation and TRPA restoration project along the reach of the Upper Truckee River that extends from U.S. Highway 50 north to Lake Tahoe and its adjacent wetland. The purpose of the proposed action is to restore natural geomorphic processes and ecological functions in this lowest reach of the Upper Truckee River and the surrounding marsh to improve ecological values of the study area and help reduce the river's discharge of nutrients and sediment that diminish Lake Tahoe's clarity.

The Upper Truckee River and Marsh Restoration Project is identified in TRPA's Environmental Improvement Program (EIP) as a project that is necessary to restore and maintain environmental thresholds for the Lake Tahoe Basin. EIP projects are designed to achieve and maintain environmental thresholds that protect Tahoe's unique and valued resources.

Two public scoping meetings will be held to solicit comments from interested parties to assist in determining the scope of the environmental analysis, including the alternatives to be addressed, and to identify the significant environmental issues related to the proposed action.

DATES: The public scoping meeting dates are:

• Tuesday, October 24, 2006, 12 to 2 p.m., South Lake Tahoe, California.

• Tuesday, October 24, 2006, 6 to 8 p.m., South Lake Tahoe, California.

In addition, the proposed project will be an agenda item at a TRPA Governing Board Meeting on Wednesday, October 25, 2006 in Stateline, Nevada (see agenda item at http://www.trpa.org/ default.aspx?tabid=258).

All comments are requested to be received by October 31, 2006.

ADDRESSES: Scoping meetings will be held at the Inn By The Lake, Sierra Nevada Room, 3300 Lake Tahoe Boulevard, South Lake Tahoe, CA 96150.

The TRPA meeting will be held at the TRPA Governing Board Rooms, 128 Market Street, Stateline, NV 89449.

Written comments on the scope of the environmental document, alternatives, and impacts to be considered should be sent to Ms. Jacqui Grandfield, Natural Resources Program Manager, California Tahoe Conservancy, 1061 Third Street, South Lake Tahoe, CA 96150.

If you would like to be included on the EIS/EIS/EIR mailing list, please contact Ms. Grandfield by e-mail at upper_truckee_marsh.tahoecons.ca.gov.

FOR FURTHER INFORMATION CONTACT: Ms. Myrnie Mayville, Environmental Specialist, Bureau of Reclamation, Mid-Pacific Region, 2800 Cottage Way, Room E-2606, Sacramento, CA, 95825-1898, (916) 978-5037, mmayville@mp.usbr.gov; Ms. Jacqui Grandfield at the above address or (530) 542-5580, upper_truckee_marsh@tahoecons.ca.gov or Mr. Mike Elam, Associate Environmental Planner, Tahoe Regional Planning Agency, P.O. Box 5310, Stateline, NV, 89448 or (775) 588-4547 ext. 308, MElam@trpa.org.

SUPPLEMENTARY INFORMATION:

Background

The Upper Truckee River has been substantially altered by land practices during the past 150 years. Throughout its watershed, the river has experienced ecosystem degradation typical of what has occurred elsewhere in the Basin. The river has been modified from its original conditions by human activities, such as logging; livestock grazing; roads; golf courses; an airport; and residential, commercial and industrial developments. These conditions have resulted in increased sediment and nutrient loads discharging into Lake Tahoe from the river, which contribute to the declining clarity of the lake. Human influences have also resulted in reduced habitat quality for plant, wildlife, and fish species in the watershed. Restoration of natural processes and ecological functions of the river is an important part of the response to the decline in lake clarity.

Restoration planning for the marsh began in the early 1990s with studies conducted by the University of California. In 1995, the Conservancy commissioned a restoration planning and design study, which identified a tentatively preferred river restoration concept 2 years later. However, it was determined that river restoration required use of the entire Upper Truckee Marsh and, at that time the east side of the marsh was not owned by the Conservancy; therefore, this tentatively selected concept could not be pursued. In 1998, the Conservancy began planning and design of an initial phase of wetland restoration on a 23-acre portion of a study area located on the east side of the Upper Truckee River near Lake Tahoe. This is an area, called the Lower West Side Wetland Restoration Project (LWS), where the marsh had been previously filled during the construction of the adjacent Tahoe Keys. After careful investigations, planning, and design; extensive environmental review; and community outreach, the Conservancy approved restoration of 12 acres of wetland through fill removal as the LWS Project in 2001. Construction commenced in the summer of 2001 and was completed in the summer of 2003. In 2000, the Conservancy purchased 311 acres of land in the center of the marsh from a private party, bringing nearly the entire Truckee Marsh into public ownership. Currently, the majority of the study area is owned by the Conservancy, including the marsh and meadows surrounding the lower reach of Trout Creek. Restoration concepts encompassing the whole marsh and the lower reach of the river could be developed after the acquisition. As part of this process, the Conservancy has also conducted public access and recreation use management planning for the river, marsh, and beach.

Initially, the Conservancy defined project objectives and desired outcomes to direct the restoration planning process. A comprehensive evaluation and documentation of the existing natural processes and functions in the study area were conducted to begin the alternatives planning process. This evaluation enabled the identification of potential restoration opportunities and constraints. Armed with detailed information about the river and marsh processes and ecological functions, the Conservancy hosted a design charrette (i.e., interactive workshop) for agencies and other stakeholders to identify the spectrum of potentially feasible restoration ideas to be considered in the development of concept plan alternatives. Four alternative concept plans, all developed to be potentially feasible, were formulated to represent a reasonable range of restoration approaches. The four concepts generated by this extensive process are four action alternatives being evaluated in the EIS/EIS/EIR. A preferred alternative will be identified after public review of the alternatives and public comments are received on the Draft EIS/EIS/EIR.

To date, key stages of the Upper Truckee River and Wetland Restoration project have included the following:

• Evaluating existing natural processes and functions of the Upper Truckee River and marsh in 2000 and 2001.

• Establishing project objectives and desired outcomes in 2002, and updating them in 2005.

• Defining restoration opportunities and constraints in 2002 and 2003.

• Conducting a restoration design charrette in 2003 to receive input from stakeholders on project priorities, concerns and constraints, and design ideas.

• Conducting hydraulic modeling studies to support the development and evaluation of project alternatives.

• Initial development and comparative evaluation of four conceptual restoration alternatives in 2004 and 2005.

• Regulatory agency review of alternative concepts for key issues and regulatory requirements in 2005.

• Further refinement and evaluation of the alternatives, and preparation of a Concept Plan Report (July 2006).

Project Objectives

The following objectives were developed for the proposed action:

• Objective 1. Restore natural and self-sustaining river and floodplain processes and functions.

• Objective 2. Protect, enhance, and restore naturally functioning habitats.

• Objective 3. Restore and enhance fish and wildlife habitat quality.

• Objective 4. Improve water quality through enhancement of natural physical and biological processes.

• Objective 5. Protect and, where feasible, expand Tahoe yellow cress populations.

• Objective 6. Provide public access, access to vistas, and environmental education at the Lower West Side and Cove East Beach.

• Objective 7. Avoid increasing flood hazard on adjacent private property.

• Objective 8. Design with sensitivity to the site's history and cultural heritage.

• Objective 9. Design the wetland/urban interface to help provide habitat value and water quality benefits.

• Objective 10. Implement a public health and safety program, including mosquito monitoring and control.

The following alternatives will be considered at an equal level of detail in the EIS/EIS/EIR:

• Alternative 1, Channel Aggradation and Narrowing (Maximum Recreation Infrastructure);

• Alternative 2, New Channel—West Meadow (Minimum Recreation Infrastructure);

• Alternative 3, Middle Marsh Corridor (Moderate Recreation Infrastructure);

• Alternative 4, Inset Floodplain (Moderate Recreation Infrastructure); and

• Alternative 5, No Project/No Action.

Alternative 1 would include raising and reconfiguring a portion of the main channel, reconfiguring two sections of split channel, reducing the capacity of the river mouth, changing the hydrologic connectivity of the sailing lagoon, constructing a river corridor barrier to reduce wildlife disturbance, restoring sand dunes at Cove East, re-routing an existing recreational trail, and developing several new recreational components (i.e., full- and self-service visitor centers, pedestrian and bicycle trails, boardwalks, viewing platforms), an interpretive program, and signage.

Alternative 2 would include excavation of a new channel and fill of a portion of the existing channel, constructing a new river mouth, changing the hydrologic connectivity of the sailing lagoon, constructing a river corridor barrier to reduce wildlife disturbance, and restoring sand dunes at Cove East, re-routing an existing recreational trail, constructing observation platforms, and developing an interpretive program and signage.

Alternative 3 would include excavation of a new channel and fill of a portion of the existing channel, reducing the capacity of the river mouth, changing the hydrologic connectivity of the sailing lagoon, re-routing an existing recreational trail, developing several new recreational components (i.e., self-service visitor center, pedestrian and bicycle trails, boardwalks, viewing platforms), and an interpretive program and signage.

Alternative 4 would include excavation of portions of the meadow surface along the corridor of the existing channel to create an inset floodplain, reducing the capacity of the river mouth, constructing a river corridor barrier to reduce wildlife disturbance, (i.e., self-service visitor center, pedestrian and bicycle trails, boardwalks, viewing platforms), and an interpretive program and signage.

Under Alternative 5, existing conditions on the project site would be projected into the future.

Potential Federal involvement may include the approval of the proposed action and partial funding of the river restoration component of the proposed action. The EIS will be combined with an EIR prepared by the Conservancy pursuant to the CEQA and an EIS prepared by the TRPA pursuant to its Compact and Chapter 5 of the TRPA Code of Ordinances.

Additional Information

The environmental review will be conducted pursuant to NEPA, CEQA, TRPA's Compact and Chapter 5 of the TRPA Code of Ordinances, the Federal and State Endangered Species Acts, and other applicable laws, to analyze the potential environmental impacts of implementing a range of feasible alternatives. Public input on the range of alternatives proposed for detailed consideration will be sought through the public scoping process.

The EIS/EIS/EIR will assess potential impacts to any Indian Trust Assets or environmental justice issues. There are no known Indian Trust Assets or environmental justice issues associated with the proposed action. Input about concerns or issues related to Indian Trust Assets are requested from potentially affected federally recognized Indian Tribes and individual Indians.

Our practice is to make comments, including names, home addresses, home phone numbers, and e-mail addresses of respondents, available for public review. Individual respondents may request that we withhold their names and/or home addresses, etc., but if you wish us to consider withholding this information you must state this prominently at the beginning of your comments. In addition, you must present a rationale for withholding this information. This rationale must demonstrate that disclosure would constitute a clearly unwarranted invasion of privacy. Unsupported assertions will not meet this burden. In the absence of exceptional, documentable circumstances, this information will be released. We will always make submissions from organizations or businesses, and from individuals identifying themselves as representatives or officials of organizations or businesses, available for public inspection in their entirety.

Robert Eckart,
Acting Regional Environmental Officer, Mid-Pacific Region.

[FR Doc. E6-17427 Filed 10-18-06; 8:45 am]

BILLING CODE 4310-MN-P